DEPARTMENT OF TRANSPORTATION

Federal Aviation Administration

14 CFR Part 39

[Docket No. 2003-NE-32-AD; Amendment 39-13243; AD 2003-15-01]

RIN 2120-AA64

Airworthiness Directives; McCauley Propeller Systems, Inc. Propeller Hub Models B5JFR36C1101, C5JFR36C1102, B5JFR36C1103, and C5JFR36C1104

AGENCY: Federal Aviation Administration (FAA), DOT.

ACTION: Final rule; request for comments.

SUMMARY: The FAA is adopting a new airworthiness directive (AD) for certain McCauley Systems, Inc. propellers that are installed on BAE Systems (Operations) Limited Jetstream Model 4101 airplanes. This AD requires a fluorescent penetrant inspection (FPI) of the propeller blades for cracks. This AD is prompted by a report of a significant crack in a propeller blade shank and two reports of cracks in the hubs of the same propeller model. We are issuing this AD to detect cracks in the propeller blade shank that could cause a failure of the propeller blade and loss of control of the airplane.

DATES: Effective July 17, 2003. The Director of the Federal Register approved the incorporation by reference of certain publications listed in the regulations as of July 17, 2003.

We must receive any comments on this AD by September 15, 2003.

ADDRESSES: Use one of the following addresses to submit comments on this AD:

• By mail: The Federal Aviation Administration (FAA), New England Region, Office of the Regional Counsel, Attention: Rules Docket No. 2003-NE-32-AD, 12 New England Executive Park, Burlington, MA 01803-5299.

• By fax: (781) 238-7055.

• By e-mail: 9-ane-adcomment@faa.gov

You may get the service information referenced in this AD from McCauley Propeller Systems, 3535 McCauley Drive, Vandalia, OH 45377.

You may examine the AD docket at the FAA, New England Region, Office of the Regional Counsel, 12 New England Executive Park, Burlington, MA. You may examine the service information at the FAA, New England Region, Office of the Regional Counsel, 12 New England Executive Park, Burlington, MA; or at the Office of the Federal Register, 800 North Capitol Street, NW., suite 700, Washington, DC.

FOR FURTHER INFORMATION CONTACT: Timothy Smyth, Aerospace Engineer, Chicago Aircraft Certification Office, FAA, Small Airplane Directorate, 2300 East Devon Avenue, Room 107, Des Plaines, IL 60018; telephone: (847) 294-7132; fax: (847) 294-7834.

SUPPLEMENTARY INFORMATION: This AD applies to the following McCauley Systems, Inc. propeller assemblies that are installed on BAE Systems (Operations) Limited Jetstream Model 4101 airplanes:

• Hub Model B5JFR36C1101, with Model 114GC series propeller blades,

• Hub Model C5JFR36C1102, with Model L114GC series propeller blades, and

• Hub Model B5JFR36C1103, with Model 114HC series propeller blades,

• Hub Model C5JFR36C1104, with Model L114HC series propeller blades. This AD requires a one time FPI of the retention area of the propeller blade. A July 1, 2003, report of vibration prompted this AD. An operator of a Jetstream Model 4101 airplane notified McCauley Propeller Systems, Inc. of a vibration during flight. Investigation found a crack that appeared to extend through the butt of the propeller blade for about one-half of the circumference of the blade shank. We also received two reports of cracks in the hubs of the same propeller models that may be related to this issue. We are requiring the actions specified in this AD to detect cracks in the propeller blade shank that could cause a failure of the propeller blade and loss of control of the airplane.

Relevant Service Information

We have reviewed and approved the technical contents of McCauley Alert Service Bulletin (ASB) ASB246B, Revision 2, dated July 11, 2003, that describes procedures for FPI of the propeller blade.

Differences Between This AD and the Service Information

McCauley ASB ASB246B, Revision 2, dated July 11, 2003, requires the operator to perform a blade shake check at 72-hour intervals. This AD does not require the blade shake check.

FAA's Determination and Requirements of This AD

The unsafe condition described previously is likely to exist or develop on other McCauley Systems, Inc. propeller hub Models B5JFR36C1101, C5JFR36C1102, B5JFR36C1103, and C5JFR36C1104, of the same type design that are installed on BAE Systems (Operations) Limited Jetstream Model 4101 airplanes. We are issuing this AD to detect cracks in the propeller blade shank that could cause a failure of the propeller blade and loss of control of the airplane. You must use the service information described previously to perform these actions.

FAA's Determination of the Effective Date

Since an unsafe condition exists that requires the immediate adoption of this AD, we have found that notice and opportunity for public comment before issuing this AD are impracticable, and that good cause exists for making this amendment effective in less than 30 days.

Changes to 14 CFR Part 39—Effect on the AD

On July 10, 2002, we issued a new version of 14 CFR part 39 (67 FR 47997, July 22, 2002), which governs our AD system. This regulation now includes material that relates to special flight permits, alternative methods of compliance, and altered products. This material previously was included in each individual AD. Since this material is included in 14 CFR part 39, we will not include it in future AD actions.

Interim Action

These actions are interim actions and we may take further rulemaking actions in the future.

Comments Invited

This AD is a final rule that involves requirements affecting flight safety and was not preceded by notice and an opportunity for public comment; however, we invite you to submit any written relevant data, views, or arguments regarding this AD. Send your comments to an address listed under ADDRESSES. Include “AD Docket No. 2003-NE-32-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You may get more information about plain language at http://www.faa.gov/language and http://www.plainlanguage.gov.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-32-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2003-15-01 McCauley Propeller Systems, Inc.: Amendment 39-13243. Docket No. 2003-NE-32-AD.

Effective Date

(a) This airworthiness directive (AD) becomes effective July 17, 2003.

Affected ADs

(b) None.

Applicability

(c) This AD applies to McCauley Propeller Systems, Inc. propeller models that are listed in Table 1 of this AD, and are installed on BAE Systems (Operations) Limited Jetstream Model 4101 airplanes. Table 1 follows:

Table 1.—Propeller Models by Hub Model and Blade Model
Propeller hub model | With propeller blade model installed
B5JFR36C1101 | 114GC series.
C5JFR36C1102 | L114GC series.
B5JFR36C1103 | 114HC series.
C5JFR36C1104 | L114HC series.

Unsafe Condition

(d) This AD is prompted by a report of a significant crack in a propeller blade shank and two reports of cracks in the hubs of the same propeller model. We are issuing this AD to detect cracks in the propeller blade shank that could cause a failure of the propeller blade and loss of control of the airplane.

Compliance

(e) You must perform the actions within the compliance times specified in this AD unless the actions have already been done.

Fluorescent Penetrant Inspection (FPI) of Propeller Blades

(f) Fluorescent-penetrant inspect the propeller blade using the procedures specified in 3.A. through 3.I. of McCauley Alert Service Bulletin (ASB) ASB246B, Revision 2, dated July 11, 2003, and the compliance times specified in the following Table 2:

Table 2.—Compliance Times for FPI of Propeller Blades
If the propeller blade time-since-new (TSN) is— | Or if— | Then inspect—
(1) 10,000 hours TSN or more | The blade was overhauled at least twice | Within 50 hours time-in-service (TIS) after the effective date of this AD.
(2) 10,000 hours TSN or more and the blade has been overhauled within the last 200 hours TIS before the effective date of this AD | The blade was overhauled at least twice, and the last overhaul was within the last 200 hours TIS before the effective date of this AD | Within 250 hours TIS after the effective date of this AD.
(3) 6,000 hours TSN or more | The blade was overhauled at least once | Within 200 hours TIS after the effective date of this AD.
(4) Fewer than 6,000 TSN | The blade has not been overhauled | At the next overhaul.

Reporting Requirements

(g) The Office of Management and Budget (OMB) has approved the reporting requirements specified in 3.H. of McCauley ASB ASB246B, Revision 2, dated July 11, 2003, and assigned OMB control number 2120-0056.

Alternative Methods of Compliance (AMOCs)

(h) You must request AMOCs as specified in 14 CFR 39.19. All AMOCs must be approved by the Manager, Chicago Aircraft Certification Office, FAA.

Material Incorporated by Reference

(i) You must use McCauley Propeller Systems, Inc., Alert Service Bulletin ASB246B, Revision 2, dated July 11, 2003, to perform the FPI. The Director of the Federal Register approved the incorporation by reference of this service bulletin in accordance with 5 U.S.C. 552(a) and 1 CFR part 51. You may get a copy from McCauley Propeller Systems, 3535 McCauley Drive, Vandalia, OH 45377. You may review copies at the FAA, New England Region, Office of the Regional Counsel, 12 New England Executive Park, Burlington, MA; or at the Office of the Federal Register, 800 North Capitol Street, NW., suite 700, Washington, DC.

Related Information

(j) None.

Issued in Burlington, Massachusetts, on July 14, 2003.
Jay J. Pardee,
Manager, Engine and Propeller Directorate, Aircraft Certification Service.

[FR Doc. 03-18236 Filed 7-15-03; 12:42 pm]

BILLING CODE 4910-13-P